DEPARTMENT OF TRANSPORTATION

Federal Railroad Administration

Petition for Waiver of Compliance

In accordance with Part 211 of Title 49 Code of Federal Regulations (CFR), notice is hereby given that the Federal Railroad Administration (FRA) received a request for waiver of compliance with certain requirements of its safety standards. The individual petition is described below, including the parties seeking relief, the regulatory provisions involved, the nature of the relief being requested, and the petitioner's arguments in favor of relief.

BNSF Railway Company

(Docket Number FRA-2008-0034)

BNSF Railway Company (BNSF) has submitted a waiver petition to extend the deadline established by 49 CFR 236.18(b) for the complete implementation of their Software Management Control Plan (SMCP), pursuant to 49 CFR 211.7.

BNSF's development and implementation of software tools to handle the gathering of office and field information has taken significantly longer than anticipated. Once those systems were built, the metadata (data used to define hardware and software configurations) to describe the types of units, modules, software, and other parameters has also taken much longer than anticipated. While BNSF is continuing to develop software, gather metadata on processor-based software and modules, gather field software information, and resolve differences in office and field data, much of the needed information has required suppliers to perform extensive searches through their archives, reformat the data, and populate the metadata.

Since many processor-based units actually need to be powered down to verify the software, BNSF is gathering additional hardware information at the same time to minimize the impact of operations. Gathering hardware modification level information on cabinets and modules goes beyond the requirements of 49 CFR 236.18 (unless software related); but BNSF asserts that this safety improvement is required. With this information, BNSF should be able to uniformly address any necessary manufacturer bulletins and updates at the same time while gathering software and hardware information.

The software development time, the time it has taken to gather manufacturer information, the training time, the time for field personnel to gather information, the time for resolution of differences, and the time needed for verification of modification levels, all place BNSF's timeline to comply with 49 CFR 236.18(b) significantly beyond the required date of June 6, 2008. To that extent, BNSF requests a waiver for relief from the June 6, 2008, deadline established by 49 CFR 236.18(b), and asserts that it will need a 12-month extension to allow for the complete implementation of their SMCP no later than June 5, 2009. BNSF does identify specific milestones of an intended percentage of completion during the 12-month extension period.

Interested parties are invited to participate in these proceedings by submitting written views, data, or comments. All communications concerning these proceedings should identify the appropriate Docket Number (Docket Number FRA-2008-0034) and may be submitted by one of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

FRA does not anticipate scheduling a public hearing in connection with these proceedings since the facts do not appear to warrant a hearing. If any interested party desires an opportunity for oral comment, they should notify FRA, in writing, before the end of the comment period and specify the basis for their request.

Communications received within 30 days of the date of this notice will be considered by FRA before final action being taken. Comments received after this period will be considered as far as practicable. All written communications concerning these proceedings are available for examination during regular business hours (9 a.m.-5 p.m.) at the DOT Docket Management Facility, 1200 New Jersey Avenue, SE., Room W12-140, in Washington, DC. All documents in the public docket are also available for inspection and copying on the Internet at http://www.regulations.gov.

Anyone is able to search the electronic form of any written communications and comments received into any of our dockets by name of the individual submitting the comment (or signing the comment, if submitted on behalf of an association, business, labor union, etc.). You may review the DOT's complete Privacy Act Statement in the Federal Register published on April 11, 2000 (Volume 65, Number 70; Pages 19477-78).

Issued in Washington, DC on April 16, 2008.
Grady C. Cothen, Jr.,
Deputy Associate Administrator for Safety Standards and Program Development.

[FR Doc. E8-8669 Filed 4-21-08; 8:45 am]

BILLING CODE 4910-06-P